OFFICE OF PERSONNEL MANAGEMENT

5 CFR Part 532

[Docket ID: OPM-2023-0017]

RIN 3206-AO60

Prevailing Rate Systems; Abolishment of Allegheny, Pennsylvania, as a Nonappropriated Fund Federal Wage System Wage Area

AGENCY: Office of Personnel Management.

ACTION: Final rule.

SUMMARY: The Office of Personnel Management (OPM) is issuing a final rule to abolish the Allegheny, Pennsylvania, nonappropriated fund (NAF) Federal Wage System (FWS) wage area and redefine Cuyahoga County, Ohio, to the Macomb, Michigan, NAF wage area; Trumbull County, OH, to the Niagara, New York, NAF wage area; Allegheny and Butler Counties, PA, to the Cumberland, PA, NAF wage area; Harrison County, West Virginia, to the Prince William, Virginia, NAF wage area; and Westmoreland County, PA, will no longer be defined. These changes are necessary because NAF FWS employment in the survey area is now below the minimum criterion of 26 wage employees to maintain a wage area, and the local activities no longer have the capability to conduct local wage surveys.

DATES:

Effective date: This regulation is effective December 15, 2023.

Applicability date: This change applies on the first day of the first applicable pay period beginning on or after December 15, 2023.

FOR FURTHER INFORMATION CONTACT: Ana Paunoiu, by telephone at (202) 606-2858 or by email at pay-leave-policy@opm.gov.

SUPPLEMENTARY INFORMATION: On August 15, 2023, OPM issued a proposed rule (88 FR 55421) to abolish the Allegheny, PA, NAF FWS wage area and redefine Cuyahoga County, OH, as an area of application county to the Macomb, MI, NAF wage area; Trumbull County, OH, as an area of application county to the Niagara, NY, NAF wage area; Allegheny and Butler Counties, PA, as an area of application counties to the Cumberland, PA, NAF wage area; and Harrison County, WV, as an area of application county to the Prince William, VA, NAF wage area. Westmoreland County, PA, will no longer be defined to a NAF wage area. The Federal Prevailing Rate Advisory Committee, the national labor-management committee responsible for advising OPM on matters concerning the pay of FWS employees, reviewed and recommended these changes by consensus.

The proposed rule had a 30-day comment period, during which OPM received no comments. Therefore, this final rule adopts the proposed rule at 88 FR 55421 without change.

Expected Impact of This Rule

Section 5343 of title 5, U.S. Code, provides OPM with the authority and responsibility to define the boundaries of NAF FWS wage areas. Any changes in wage area definitions can have the long-term effect of increasing pay for Federal employees in affected locations. OPM expects this final rule to impact approximately 26 NAF FWS employees. Considering the small number of employees affected, OPM does not anticipate this rule will substantially impact local economies or have a large impact in local labor markets. As this and future wage area changes may impact higher volumes of employees in geographical areas and could rise to the level of impacting local labor markets, OPM will continue to study the implications of such impacts in this or future rules as needed.

Regulatory Review

Executive Orders 13563, 12866, and 14094 direct agencies to assess all costs and benefits of available regulatory alternatives and, if regulation is necessary, to select regulatory approaches that maximize net benefits (including potential economic, environmental, public health and safety effects, distributive impacts, and equity). This rule is not a “significant regulatory action” under the provisions of Executive Order 14094 and, therefore, was not reviewed by OMB.

Regulatory Flexibility Act

The Director of OPM certifies that this rule will not have a significant economic impact on a substantial number of small entities.

Federalism

OPM has examined this rule in accordance with Executive Order 13132, Federalism, and have determined that this rule will not have any negative impact on the rights, roles and responsibilities of State, local, or tribal governments.

Civil Justice Reform

This rule meets the applicable standard set forth in Executive Order 12988.

Unfunded Mandates Act of 1995

This rule will not result in the expenditure by State, local, and tribal governments, in the aggregate, or by the private sector, of $100 million or more in any year and it will not significantly or uniquely affect small governments. Therefore, no actions were deemed necessary under the provisions of the Unfunded Mandates Reform Act of 1995.

Congressional Review Act

Subtitle E of the Small Business Regulatory Enforcement Fairness Act of 1996 (known as the Congressional Review Act or CRA) (5 U.S.C. 801 et seq.) requires most final rules to be submitted to Congress before taking effect. OPM will submit to Congress and the Comptroller General of the United States a report regarding the issuance of this rule before its effective date. The Office of Information and Regulatory Affairs in the Office of Management and Budget has determined that this rule is not a major rule as defined by the CRA (5 U.S.C. 804).

Paperwork Reduction Act

This rule does not impose any reporting or record-keeping requirements subject to the Paperwork Reduction Act.

List of Subjects in 5 CFR Part 532

Administrative practice and procedure, Freedom of information, Government employees, Reporting and recordkeeping requirements, Wages.

Office of Personnel Management.
Kayyonne Marston,
Federal Register Liaison.

Accordingly, OPM amends 5 CFR part 532 as follows:

PART 532—PREVAILING RATE SYSTEMS

1. The authority citation for part 532 continues to read as follows:

Authority: 5 U.S.C. 5343, 5346; § 532.707 also issued under 5 U.S.C. 552.

2. In Appendix D to subpart B, amend the table by revising the wage area listing for the States of Michigan, New York, Pennsylvania, and Virginia to read as follows:

Appendix D to Subpart B of Part 532—Nonappropriated Fund Wage and Survey Areas

Definitions of Wage Areas and Wage Area Survey Areas

* * * * *

MICHIGAN

Macomb

Survey Area

Michigan:

Macomb

Area of Application. Survey area plus:

Michigan:

Alpena

Calhoun

Crawford

Grand Traverse

Huron

Iosco

Kent

Leelanau

Ottawa

Saginaw

Washtenaw

Wayne

Ohio:

Cuyahoga

Lucas

Ottawa

* * * * *

NEW YORK

Jefferson

Survey Area

New York:

Jefferson

Area of Application. Survey area plus:

New York:

Albany

Oneida

Onondaga

Ontario

Schenectady

Steuben

Kings-Queens

Survey Area

New York:

Kings

Queens

Area of Application. Survey area plus:

New Jersey:

Essex

Hudson

New York:

Bronx

Nassau

New York

Richmond

Suffolk

Niagara

Survey Area

New York:

Niagara

Area of Application. Survey area plus:

New York:

Erie

Genesee

Ohio:

Trumbull

Pennsylvania:

Erie

Orange

Survey Area

New York:

Orange

Area of Application. Survey area plus:

New York:

Dutchess

Westchester

* * * * *

PENNSYLVANIA

Cumberland

Survey Area

Pennsylvania:

Cumberland

Area of Application. Survey area plus:

Pennsylvania:

Allegheny

Blair

Butler

Franklin

York

Survey Area

Pennsylvania:

York

Area of Application. Survey area plus:

Pennsylvania:

Lebanon

* * * * *

VIRGINIA

Alexandria-Arlington-Fairfax

Survey Area

Virginia (city):

Alexandria

Virginia (counties):

Arlington

Fairfax

Area of Application. Survey area.

Chesterfield-Richmond

Survey Area

Virginia (city):

Richmond

Virginia (county):

Chesterfield

Area of Application. Survey area plus:

Virginia (cities):

Bedford

Charlottesville

Salem

Virginia (counties):

Caroline

Nottoway

Prince George

West Virginia:

Pendleton

Hampton-Newport News

Survey Area

Virginia (cities):

Hampton

Newport News

Area of Application. Survey area plus:

Virginia (city):

Williamsburg

Virginia (county):

York

Norfolk-Portsmouth-Virginia Beach

Survey Area

Virginia (cities):

Norfolk

Portsmouth

Virginia Beach

Area of Application. Survey area plus:

North Carolina:

Pasquotank

Virginia (cities):

Chesapeake

Suffolk

Virginia (counties):

Accomack

Northampton

Prince William

Survey Area

Virginia:

Prince William

Area of Application. Survey area plus:

Virginia:

Fauquier

West Virginia:

Harrison

* * * * *

[FR Doc. 2023-25154 Filed 11-14-23; 8:45 am]

BILLING CODE 6325-39-P